DEPARTMENT OF ENERGY

Federal Energy Regulatory Commission

[Project No. 2955-011]

City of Watervliet, New York; Notice of Waiver Period for Water Quality Certification Application

On July 12, 2021, the City of Watervliet, New York filed with the Federal Energy Regulatory Commission a copy of its application for a Clean Water Act section 401(a)(1) water quality certification submitted to New York State Department of Environmental Conservation (New York DEC), in conjunction with the above captioned project. Pursuant to 40 CFR 121.6, we hereby notify the New York DEC of the following:

Date of Receipt of the Certification Request: July 12, 2021.

Reasonable Period of Time to Act on the Certification Request: One year.

Date Waiver Occurs for Failure to Act: July 12, 2022.

If New York DEC fails or refuses to act on the water quality certification request by the above waiver date, then the agency's certifying authority is deemed waived pursuant to section 401(a)(1) of the Clean Water Act, 33 U.S.C. 1341(a)(1).

Dated: July 21, 2021.
Debbie-Anne A. Reese,
Deputy Secretary.

[FR Doc. 2021-15926 Filed 7-26-21; 8:45 am]

BILLING CODE 6717-01-P